INTERNATIONAL TRADE COMMISSION

[Inv. No. 337-TA-754]

In the Matter of Certain Handbags, Luggage, Accessories and Packaging Thereof; Notice of Investigation

AGENCY: U.S. International Trade Commission.

ACTION: Institution of investigation pursuant to 19 U.S.C. 1337.

SUMMARY: Notice is hereby given that a complaint was filed with the U.S. International Trade Commission on December 3, 2010, under section 337 of the Tariff Act of 1930, as amended, 19 U.S.C. 1337, on behalf of Louis Vuitton Malletier S.A. of France and Louis Vuitton U.S. Manufacturing, Inc. of San Dimas, California. An amended complaint was filed on December 10, 2010. On December 16, 2010, complainants filed supplemental materials. The amended complaint alleges violations of section 337 based upon the importation into the United States, the sale for importation, and the sale within the United States after importation of certain handbags. luggage, accessories and packaging thereof by reason of infringement of U.S. Trademark Registration No. 297,594 (“the `594 trademark”); U.S. Trademark Registration No. 1,643,625 (“the `625 trademark”); U.S. Trademark Registration No. 1,653,663 (“the `663 trademark”); U.S. Trademark Registration No. 1,875,198 (“the `198 trademark”); U.S. Trademark Registration No. 2,773,107 (“the `107 trademark”); U.S. Trademark Registration No. 2,177,828 (“the `828 trademark”); U.S. Trademark Registration No. 2,181,753 (“the `753 trademark”); and U.S. Trademark Registration No. 1,519,828 (“the `828 trademark”). The complaint further alleges that an industry in the United States exists as required by subsection (a)(2) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Erin D. E. Joffre, Esq., Office of Unfair Import Investigations, U.S. International Trade Commission, telephone (202) 205-2550.

Authority: The authority for institution of this investigation is contained in section 337 of the Tariff Act of 1930, as amended, and in section 210.10 of the Commission's Rules of Practice and Procedure, 19 CFR 210.10 (2010).

Scope of Investigation: Having considered the complaint, the U.S. International Trade Commission, on December 28, 2010, Ordered That—

(1) Pursuant to subsection (b) of section 337 of the Tariff Act of 1930, as amended, an investigation be instituted to determine whether there is a violation of subsection (a)(1)(B) of section 337 in the importation into the United States, the sale for importation, or the sale within the United States after importation of certain handbags, luggage, accessories and packaging thereof that infringe the `594 trademark; the `625 trademark; the `663 trademark; the `198 trademark; the `107 trademark; the `828 trademark; the `753 trademark; and the `828 trademark, and whether an industry in the United States exists as required by subsection (a)(2) of section 337;

(2) For the purpose of the investigation so instituted, the following are hereby named as parties upon which this notice of investigation shall be served:

(a) The complainants are:

Louis Vuitton Malletier S.A., 2 Rue du Pont Neuf, Paris, France 75034.

Louis Vuitton U.S. Manufacturing, Inc., 321 W. Covina Boulevard, San Dimas, CA 91773-2907.

(b) The respondents are the following entities alleged to be in violation of section 337, and are the parties upon which the complaint is to be served:

T&T Handbag Industrial Co., Ltd., Room 4202, Tower B, KingGu Building, HeGuang Road, TianHe District, Guangzhou, China.

Sanjiu Leather Co., Ltd. of Guangzhou, 9 Longgui Section (Nancun #4 Economic Community), National Road 106, Baiyun District, Guangzhou, China.

Meada Corporation (d/b/a Diophy International), 9319A Telstar Avenue, El Monte, CA 91731-2815.

Pacpro, Inc., 9319A Telstar Avenue, El Monte, CA 91731-2815.

Jianyong Zheng (a/k/a Jiu Gao Zheng, Jiu An Zheng, Jian Yong Zheng, Peter Zheng), 886 S. Golden West Avenue, Arcadia, CA 91007-6563.

Alice Bei Wang (a/k/a Alice B. Wang), 886 S. Golden West Avenue, Arcadia, CA 91007-6563.

Trendy Creations, Inc., 9851 Mason Avenue, Chatsworth, CA 91311.

The Inspired Bagger, 8444 Endicott Lane, Dallas, TX 75227.

House of Bags, 1125-8 Maple Alley, Los Angeles, CA 90015.

Ronett Trading, Inc. (d/b/a Ronett Wholesale & Import), 43 West 27th Street, New York, NY 10001.

EZ Shine Group, Inc., 48 West 27th Street, New York, NY 10001.

Master of Handbags, 1153 Santee Street, Los Angeles, CA 90015.

Choicehandbag.com, Inc. (d/b/a Choice Handbags), 1100 S. Main Street, Los Angeles, CA 90015.

Rasul Enterprises, LLC (d/b/a The Handbag Warehouse), 11536 Harry Hines Blvd. Suite #205, Dallas, TX 75229.

(c) The Commission investigative attorney, party to this investigation, is Erin D. E. Joffre, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 29, 2010.
Marilyn R. Abbott,
Secretary to the Commission.

[FR Doc. 2010-33249 Filed 1-4-11; 8:45 am]

BILLING CODE 7020-02-P